DEPARTMENT OF VETERANS AFFAIRS

38 CFR Part 3

RIN 2900-AK07

Signature by Mark

AGENCY: Department of Veterans Affairs.

ACTION: Proposed rule.

SUMMARY: This document proposes to amend the Department of Veterans Affairs (VA) regulation that explains how a claimant can use a mark or a thumbprint in place of a signature. The intended effect of this amendment is to present the existing regulation in “plain language” and to remove an obsolete manual provision from VA's Adjudication Procedure Manual, M21-1.

DATES: Comments must be received on or before September 25, 2000.

ADDRESSES: Mail or hand deliver written comments to: Director, Office of Regulations Management (02D), Department of Veterans Affairs, 810 Vermont Ave., NW., Room 1154, Washington, DC 20420; or fax comments to (202) 273-9289; or e-mail comments to OGCRegulations@mail.va.gov. Comments should indicate that they are submitted in response to “RIN 2900-AK07.” All comments received will be available for public inspection in the Office of Regulations Management, Room 1158, between the hours of 8 a.m. and 4:30 p.m., Monday through Friday (except holidays).

FOR FURTHER INFORMATION CONTACT: Candice Weaver, Consultant, Advisory and Court of Appeals for Veterans Claims Staff, Compensation and Pension Service, or Bob White, Team Leader, Plain Language Regulations Project, Veterans Benefits Administration, 810 Vermont Avenue, NW., Washington, DC 20420, telephone 202/273-7235 and 202/273-7228 respectively.

SUPPLEMENTARY INFORMATION: VA proposes to rewrite 38 CFR 3.113 in plain language. This regulation explains VA's requirements for the use of a mark or thumbprint in place of a signature. It is currently located under subpart A of part 3. We propose to create new § 3.2130 to restate the current regulation, incorporating its provisions with no substantive changes. The proposed section would be located in new Subpart D, Universal Adjudication Rules. We are also proposing new § 3.2100, which will specify the scope of applicability of the provisions in subpart D.

The Adjudication Procedure Manual, at M21-1, part IV, ch. 29, paragraph b(2), instructs that Eligibility Verification Reports (EVR) signed by mark or thumbprint must be accompanied by a separate sheet of paper that includes a certification that the information contained on the form is true and correct. In the past, income questionnaire forms included a statement certifying the accuracy of the information provided. When the forms were changed to small cards, a separate sheet of paper was needed for the signatures and addresses of the witnesses to the claimants' marks or thumbprints, and the certification statement. Current EVR forms are larger and they do not include certification statements. Rather, they include a caution regarding the willful submission of false information. VA believes the requirement for a separate sheet of paper containing a certification statement is now obsolete and proposes to formally withdraw paragraph b(2) from the Adjudication Procedure Manual.

Proposed section 3.2130, paragraph (c) eliminates reference to the VA Form 4505 series as giving authority to VA employees to certify signatures by mark or thumbprint and substitutes a reference to 38 CFR 2.3. It is regulations, not forms, that give certain VA employees the authority to take affidavits, administer oaths, and certify documents. The regulations are also more readily available to the general public than VA Forms are. We believe this change more clearly identifies the VA employees authorized to certify signatures by mark or thumbprint.

This rulemaking is partly a response to the Presidential Memorandum on Plain Language, dated June 1, 1998 (63 FR 31885-86), and addressed to the heads of executive departments and agencies. The memorandum stated the President's goal to make government more responsive, accessible, and comprehensible in its communications with the public. As an integral part of his program, the President urged departments and agencies to consider rewriting existing regulations in plain language when they have the opportunity and resources to do so.

This rulemaking also addresses commentary from the judicial branch. In Zang v. Brown, 8 Vet. App. 246, 255 (1995) (Steinberg, J., separate views), the Court of Appeals for Veterans Claims (the Court) pointed to a “‘confusing tapestry’ of VA regulations which should be the subject of review and reevaluation by the Secretary [of Veterans Affairs] with a view toward providing clear guidance for the adjudication of VA benefits claims.”

In response to the President's memorandum and the Court's commentary, VA has undertaken a long-term, comprehensive project to revise its adjudication regulations. The Plain Language Regulations Project is charged with reorganizing and rewriting in plain language the adjudication regulations in part 3 of title 38, Code of Federal Regulations. The project team will use Reader-Focused Writing techniques to the extent possible while remaining faithful to the policies and mandates expressed in current statutes, regulations, and case law.

Unfunded Mandates

The Unfunded Mandates Reform Act requires (in section 202) that agencies prepare an assessment of anticipated costs and benefits before developing any rule that may result in an expenditure by state, local, or tribal governments, in the aggregate, or by the private sector of $100 million or more in any given year. This final rule will have no consequential effect on state, local, or tribal governments.

Regulatory Flexibility Act

The Secretary certifies that the adoption of the proposed rule would not have a significant economic impact on a substantial number of small entities as they are defined in the Regulatory Flexibility Act, 5 U.S.C. 601-612. The proposed rule does not directly affect any small entities. Only VA beneficiaries could be directly affected. Therefore, pursuant to 5 U.S.C. 605(b), these amendments are exempt from the initial and final regulatory flexibility analysis requirements of sections 603 and 604.

The catalog of Federal Domestic Assistance program numbers for this proposal includes 64.100, 64.101, 64.104, 64.105, 64.109, 64.110, and 64.127.

List of Subjects in 38 CFR Part 3

Administrative practice and procedure, Claims, Disability benefits, Health care, Pensions, Veterans, Vietnam.

Approved: July 13, 2000.
Togo D. West, Jr.,
Secretary of Veterans Affairs.

For the reasons set forth in the preamble, VA proposes to amend 38 CFR part 3 as follows:

PART 3—ADJUDICATION

Subpart A—Pension, Compensation, and Dependency and Indemnity Compensation

1. The authority citation for part 3, subpart A continues to read as follows:

Authority: 38 U.S.C. 501(a), unless otherwise noted.

§ 3.113 [Removed]

2. Section 3.113 is removed.

Subpart C—[Reserved]

3. Subpart C is added and reserved.

4. A new Subpart D is added to read as follows:

Subpart D—Universal Adjudication Rules That Apply to Benefit Claims Governed by Part 3 of This Title

General

Sec.
3.2100 Scope of Applicability
3.2130 Will VA accept a signature by mark or thumbprint?

Subpart D—Universal Adjudication Rules That Apply to Benefit Claims Governed by Part 3 of This Title

Authority: 38 U.S.C. 501(a), unless otherwise noted.

General

§ 3.2100 Scope of Applicability.

Unless otherwise specified, the provisions of this subpart apply only to claims governed by part 3 of this title.

(Authority: 38 U.S.C. 501(a))

§ 3.2130 Will VA accept a signature by mark or thumbprint?

VA will accept signatures by mark or thumbprint if:

(a) They are witnessed by two people who sign their names and give their addresses, or

(b) They are certified by a notary public or any other person having the authority to administer oaths for general purposes, or

(c) They are certified by a VA employee who has been delegated authority by the Secretary under 38 CFR 2.3.

(Authority: 38 U.S.C. 5101)

[FR Doc. 00-18688 Filed 7-25-00; 8:45 am]

BILLING CODE 8320-01-P